FEDERAL COMMUNICATIONS COMMISSION

[FR ID: 225251]

Privacy Act of 1974; System of Records

AGENCY: Federal Communications Commission.

ACTION: Notice of a modified system of records.

SUMMARY: The Federal Communications Commission (FCC, Commission, or Agency) proposes to modify an existing system of records, FCC/OMD-28, Time and Attendance Records, subject to the Privacy Act of 1974, as amended. This action is necessary to meet the requirements of the Privacy Act to publish in the Federal Register notice of the existence and character of records maintained by the agency. The Human Resources Management (HRM) division of the FCC's Office of Managing Director (OMD) uses this system primarily to prepare time and attendance records, to certify hours worked and leave earned and taken, and otherwise to administer the FCC's time and attendance/payroll program.

DATES: This modified system of records will become effective on June 17, 2024. Written comments on the routine uses are due by July 17, 2024. The routine uses in this action will become effective on July 17, 2024 unless comments are received that require a contrary determination.

ADDRESSES: Send comments to Brendan McTaggart, Federal Communications Commission (FCC), 45 L Street NE, Washington, DC 20554, or to privacy@fcc.gov.

FOR FURTHER INFORMATION CONTACT: Brendan McTaggart, (202) 418-1738, or privacy@fcc.gov (and to obtain a copy of the Narrative Statement and the Supplementary Document, which includes details of the modifications to this system of records).

SUPPLEMENTARY INFORMATION: This notice serves to update and modify FCC/OMD-28, as a result of various necessary changes and updates. The substantive changes and modifications to the previously published version of the FCC/OMD-28 system of records include:

1. Updating the language in the Security Classification to follow OMB guidance.

2. Updating the language in the Purposes section to be consistent with the language and phrasing currently used generally in the FCC's SORNs.

3. Modifying the language in the Categories of Individuals and Categories of Records to be consistent with the language and phrasing currently used in the FCC's SORNs.

4. Updating and/or revising language in the following routine uses (listed by the routine use number designated in this notice): (2) Litigation; (3) Adjudication; (4) Law Enforcement and Investigation; (5) Congressional Inquiries; (6) Government-wide Program Management and Oversight; and (12) Breach Notification, the addition of which is as required by OMB Memorandum No. M-17-12.

5. Adding the following new routine uses (listed by current routine use number): (13) Assistance to Federal Agencies and Entities Related to Breaches, the addition of which is required by OMB Memorandum No. M-17-12; and (15) Non-Federal Personnel to allow contractors, vendors, grantees, or volunteers performing or working on a contract, grant, or cooperative agreement for the Federal Government to have access to needed information.

6. Updating the SORN to include the National Archives and Records Administration (NARA) General Records Schedule 2.4: Employee Compensation and Benefits Records (DAA-GRS-2016-0015).

The system of records is also updated to reflect various administrative changes related to the system managers and system addresses; policy and practices for storage and retrieval of the information; administrative, technical, and physical safeguards; and updated notification, records access, and contesting records procedures.

SYSTEM NAME AND NUMBER:

FCC/OMD-28, Time and Attendance Records.

SECURITY CLASSIFICATION:

Unclassified.

SYSTEM LOCATION:

HRM, OMD, FCC, 45 L Street NE, Washington, DC 20554.

SYSTEM MANAGER:

HRM, OMD, FCC, 45 L Street NE, Washington, DC 20554.

AUTHORITY FOR MAINTENANCE OF THE SYSTEM:

5 U.S.C. 5501 et seq., 5520a, 5525 et seq., 5701 et seq. and 6301 et seq.; 10 U.S.C. 1408; 28 U.S.C. 66a; 44 U.S.C. 2801, 2802; 5 U.S.C. 6328 through 6340; 42 U.S.C. 659; Federal Employees Leave Sharing Act of 1988 and Amendments of 1993 (Pub. L. Nos. 100-440, 101-509), Personal Responsibility and Work Opportunity Reconciliation Act 1966 (Pub. L. 104-193).

PURPOSES OF THE SYSTEM:

HRM uses the information in this system for the following purposes:

1. Authorizing payroll deductions, including allotments, charitable contributions, and union dues;

2. Collecting indebtedness, including overpayment of salary and unpaid Internal Revenue Service (IRS) taxes and/or state taxes, etc.;

3. Paying income tax obligations, including to the IRS and states' revenue departments;

4. Authorizing the United States Department of Agriculture, National Finance Center (NFC) to issue salary payments;

5. Reporting gross wages and compensation information, including unemployment compensation;

6. Paying any uncollected compensation, including lump-sum payments of leave upon an employee's separation, such as retirement and resignation, or due to the beneficiaries of a deceased employee;

7. Determining leave balances, including accrued and used leave, sick leave, eligibility for and/or authorize donations for the leave transfer program, and other types of leave categories;

8. Collecting aggregate telework data to report to the Office of Personnel Management.

9. Producing summary descriptive statistics and analytical studies in support of the FCC's operational functions;

10. Responding to general requests for statistical information without disclosing any personally identifiable information (PII) under the Freedom of Information Act (FOIA);

11. Locating specific individuals for HRM functions; and

12. Directing the FCC's implementation of garnishment and levy orders served upon the Commission for implementation, correspondence, and memorandum, issued by a court of competent jurisdiction or by another government entity authorized to issue such an order for a Commission employee subject thereto.

CATEGORIES OF INDIVIDUALS COVERED BY THE SYSTEM:

The categories of individuals whose records are maintained in this system include current and former FCC employees.

CATEGORIES OF RECORDS IN THE SYSTEM:

The records in this system include the following categories of information: (1) Information pertaining to current and former FCC employees including names, work and home addresses, Social Security Numbers (SSNs), dates of birth, dates of hire, states of hire, bureau/office, quarterly earnings, timekeeper numbers, salaries, pay plans, number of hours worked, leave accrual rate, usage, balances, associated supporting documentation such as Requests for Leave, Credit Hours earned, Compensatory and Overtime hours requested and earned, time off awards credited, leave transfer requests, leave donor forms, medical documentation to support advance of sick leave and leave transfer, tax, payroll allotment, direct deposit forms, employer identifying information, etc.; and (2) Orders related to wage garnishment served on the FCC for implementation, related correspondence, and memoranda issued by a court of competent jurisdiction or by another government entity authorized to issue such an order for a FCC employee subject thereto.

RECORD SOURCE CATEGORIES:

Sources of records include FCC employees, bankruptcy courts, state domestic relations courts, state public health and welfare departments or agencies, the IRS, and intra-agency memoranda.

ROUTINE USES OF RECORDS MAINTAINED IN THE SYSTEM, INCLUDING CATEGORIES OF USERS AND THE PURPOSES OF SUCH USES:

In addition to those disclosures generally permitted under 5 U.S.C. 552a(b) of the Privacy Act, all or a portion of the records or information contained in this system may be disclosed to authorized entities, as is determined to be relevant and necessary, outside the FCC as a routine use pursuant to 5 U.S.C. 552a(b)(3) as follows:

1. Compliance with Welfare Reform Requirements—Records, including names, Social Security Numbers, home addresses, dates of birth, dates of hire, quarterly earnings, employer identifying information, and state of hire of employees, may be disclosed to the Office of Child Support Enforcement, Administration for Children and Families, and Department of Health and Human Services for the purposes of locating individuals to establish paternity, establishing and modifying orders of child support, identifying sources of income, and for other child support enforcement actions as required by the Personal Responsibility and Work Opportunity Reconciliation Act.

2. Litigation—Records may be disclosed to the Department of Justice (DOJ) when: (a) the FCC or any component thereof; (b) any employee of the FCC in his or her official capacity; (c) any employee of the FCC in his or her individual capacity where the DOJ or the FCC has agreed to represent the employee; or (d) the United States Government is a party to litigation or has an interest in such litigation, and by careful review, the FCC determines that the records are both relevant and necessary to the litigation, and the use of such records by the DOJ is for a purpose that is compatible with the purpose for which the FCC collected the records.

3. Adjudication—Records may be disclosed in a proceeding before a court or adjudicative body, when: (a) the FCC or any component thereof; or (b) any employee of the FCC in his or her official capacity; or (c) any employee of the FCC in his or her individual capacity; or (d) the United States Government, is a party to litigation or has an interest in such litigation, and by careful review, the FCC determines that the records are both relevant and necessary to the litigation, and that the use of such records is for a purpose that is compatible with the purpose for which the agency collected the records.

4. Law Enforcement and Investigation—When the FCC investigates any violation or potential violation of a civil or criminal law, regulation, policy, executed consent decree, order, or any other type of compulsory obligation, and determines that a record in this system, either alone or in conjunction with other information, indicates a violation or potential violation of law, regulation, policy, consent decree, order, or other compulsory obligation, the FCC may disclose pertinent information as it deems necessary to the target of an investigation, as well as with the appropriate Federal, State, local, Tribal, international, or multinational agencies, or a component of such an agency, responsible for investigating, prosecuting, enforcing, or implementing a statute, rule, regulation, or order.

5. Congressional Inquiries—Information may be provided to a Congressional office in response to an inquiry from that Congressional office made at the written request of the individual to whom that information pertains.

6. Government-wide Program Management and Oversight—Records may be disclosed to DOJ to obtain that Department's advice regarding disclosure obligations under the FOIA; or to OMB to obtain that office's employer identifying information, and advice regarding obligations under the Privacy Act.

7. Employment, Clearances, Licensing, Contract, Grant, or other Benefits Decisions by the Agency—Disclosure may be made to a Federal, State, local, foreign, tribal, or other public agency maintaining civil, criminal, or other relevant enforcement records, or other pertinent records, or to another public authority or professional organization, if necessary to obtain information relevant to an investigation concerning the retention of an employee or other personnel action (other than hiring), the retention of a security clearance, the letting of a contract, or the issuance or retention of a grant or other benefit.

8. Employment, Clearances, Licensing, Contract, Grant, or other Benefits Decisions by Other than the Agency—Disclosure may be made to a Federal, State, local, foreign, tribal, or other public authority of the fact that this system of records contains information relevant to the retention of an employee, the retention of a security clearance, the letting of a contract, or the issuance or retention of a license, grant, or other benefit. The other agency or licensing organization may then make a request supported by the written consent of the individual for the entire record if it so chooses. No disclosure will be made unless the information has been determined to be sufficiently reliable to support a referral to another office within the agency or to another Federal agency for criminal, civil, administrative, personnel, or regulatory action.

9. Labor Relations—A record from this system may be disclosed to officials of labor organizations recognized under 5 U.S.C. chapter 71 upon receipt of a formal request and in accord with the conditions of 5 U.S.C. 7114 when relevant and necessary to their duties of exclusive representation concerning personnel policies, practices, and matters affecting working conditions.

10. Financial Obligations under the Debt Collection Act—A record from this system may be disclosed to other Federal agencies for the purpose of collecting and reporting on delinquent debts as authorized by the Debt Collection Act of 1982 or the Debt Collection Improvement Act of 1996. A record from this system may be disclosed to any Federal, state, or local agency to conduct an authorized computer matching program in compliance with the Privacy Act of 1974, as amended, to identify and locate individuals who are delinquent in their repayment of certain debts owed to the U.S. Government. A record from this system may be used to prepare information on items considered income for taxation purposes to be disclosed to Federal, State, and local governments.

11. Financial Obligations Required by the National Finance Center et al.—Records may be disclosed to the NFC (the FCC's designated payroll office), the Department of the Treasury Debt Management Services, and/or a current employer to effect a salary, IRS and/or state tax refund(s), or administrative offset to satisfy an indebtedness; and to Federal agencies to identify and locate former employees for the purposes of collecting such indebtedness, including through administrative, salary, or tax refund offsets. Identifying and locating former employees, and the subsequent referral to such agencies for offset purposes, may be accomplished through authorized computer matching programs under applicable statutory procedures.

12. Breach Notification—Records may be disclosed to appropriate agencies, entities, and persons when: (a) the Commission suspects or has confirmed that there has been a breach of the system of records; (b) the Commission has determined that as a result of the suspected or confirmed compromise there is a risk of harm to individuals, the Commission (including its information systems, programs, and operations), the Federal Government, or national security; and (c) the disclosure made to such agencies, entities, and persons is reasonably necessary to assist in connection with the Commission's efforts to respond to the suspected or confirmed breach or to prevent, minimize, or remedy such harm.

13. Assistance to Federal Agencies and Entities Related to Breaches—Records may be disclosed to another Federal agency or Federal entity, when the Commission determines that information from this system is reasonably necessary to assist the recipient agency or entity in: (a) responding to a suspected or confirmed breach or (b) preventing, minimizing, or remedying the risk of harm to individuals, the recipient agency or entity (including its information systems, program, and operations), the Federal Government, or national security, resulting from a suspected or confirmed breach.

14. Pay and Leave Disclosures—A record from this system may be disclosed to any federal or nonfederal entity from which additional information is requested relevant to an FCC determination concerning an individual's pay or leave to the extent necessary to identify the individual, inform the source of the purpose(s) of the requests, and to identify the type of information requested.

15. Non-Federal Personnel—Records may be disclosed to non-Federal personnel, including contractors, other vendors (e.g., identity verification services), grantees, and volunteers who have been engaged to assist the FCC in the performance of a contract, service, grant, cooperative agreement, or other activity related to this system of records and who need to have access to the records in order to perform their activity.

POLICIES AND PRACTICES FOR STORAGE OF RECORDS:

The electronic data, files, and records are housed in the FCC's computer network databases. The paper records are stored in file cabinets located in the HRM office suite. The file cabinets are locked when not in use and/or at the end of the business day. The file cabinets are accessible only via card-coded security doors. Access to the file cabinets is restricted to authorized HRM personnel and FCC contractors.

POLICIES AND PRACTICES FOR RETRIEVAL OF RECORDS:

Information in the electronic database can be retrieved by searching electronically for the FCC employee's name. Information in the paper records can be retrieved by manual search for the FCC employee's name.

POLICIES AND PRACTICES FOR RETENTION AND DISPOSAL OF RECORDS:

The information in this electronic system is maintained and disposed of in accordance with the National Archives and Records Administration (NARA) General Records Schedule 2.4: Employee Compensation and Benefits Records (DAA-GRS-2016-0015).

ADMINISTRATIVE, TECHNICAL, AND PHYSICAL SAFEGUARDS:

The electronic records, files, and data are stored within FCC or a vendor's accreditation boundaries and maintained in FCC or vendor's computer network databases. Access to the electronic files is restricted to authorized employees and contractors; and to IT staff, contractors, and vendors who maintain the IT networks and services. Other employees and contractors may be granted access on a need-to-know basis. The electronic files and records are protected by FCC and third-party privacy safeguards, a comprehensive and dynamic set of IT safety and security protocols and features that are designed to meet all Federal privacy standards, including those required by the Federal Information Security Modernization Act of 2014 (FISMA), the Office of Management and Budget (OMB), and the National Institute of Standards and Technology (NIST).

The paper records are stored in file cabinets located in the HRM office suite. The file cabinets are locked when not in use and/or at the end of the business day. The file cabinets are accessible only via card-coded security doors. Access to the file cabinets is restricted to authorized HRM personnel and FCC contractors.

RECORD ACCESS PROCEDURES:

Individuals wishing to request access to and/or amendment of records about themselves should follow the Notification Procedures below.

CONTESTING RECORD PROCEDURES:

Individuals wishing to request access to and/or amendment of records about themselves should follow the Notification Procedures below.

NOTIFICATION PROCEDURES:

Individuals wishing to determine whether this system of records contains information about themselves may do so by writing to privacy@fcc.gov. Individuals requesting record access or amendment must also comply with the FCC's Privacy Act regulations regarding verification of identity as required under 47 CFR part 0, subpart E.

EXEMPTIONS PROMULGATED FOR THE SYSTEM:

None.

HISTORY:

76 FR 51975 (August 19, 2011) and 76 FR 55388 (September 7, 2011) (correction).

Federal Communications Commission.
Marlene Dortch,
Secretary.

[FR Doc. 2024-13269 Filed 6-14-24; 8:45 am]

BILLING CODE 6712-01-P